DEPARTMENT OF ENERGY

Federal Energy Regulatory Commission

Combined Notice of Filings

October 27, 2009.

Take notice that the Commission has received the following Natural Gas Pipeline Rate and Refund Report filings:

Docket Numbers: RP10-60-000.

Applicants: Dominion Transmission, Inc.

Description: Dominion Transmission, Inc submits Eighth Revised Sheet 1173 to FERC Gas Tariff, Third revised Volume 1, to be effective 11/20/09.

Filed Date: 10/19/2009.

Accession Number: 20091020-0042.

Comment Date: 5 p.m. Eastern Time on Monday, November 2, 2009.

Docket Numbers: RP10-64-000.

Applicants: Transcontinental Gas Pipe Line Company.

Description: Motion to Intervene of National Fuel Gas Distribution Corporation.

Filed Date: 10/22/2009.

Accession Number: 20091022-5057.

Comment Date: 5 p.m. Eastern Time on Tuesday, November 3, 2009.

Docket Numbers: RP10-65-000.

Applicants: Guardian Pipeline, L.L.C.

Description: Guardian Pipeline, LLC submits Twelfth Revised Sheet 6 et al. to its FERC Gas Tariff, Original Volume 1 to be effective 11/1/09.

Filed Date: 10/21/2009.

Accession Number: 20091022-0291.

Comment Date: 5 p.m. Eastern Time on Monday, November 2, 2009.

Docket Numbers: RP10-66-000.

Applicants: Trailblazer Pipeline Company LLC.

Description: Trailblazer Pipeline Company, LLC submits report on the refund of penalty revenues.

Filed Date: 10/21/2009.

Accession Number: 20091022-0337.

Comment Date: 5 p.m. Eastern Time on Monday, November 2, 2009.

Docket Numbers: RP10-67-000.

Applicants: Arlington Storage Company, LLC.

Description: Arlington Storage Company, LLC submits its FERC Gas Tariff, First Revised Volume 1.

Filed Date: 10/21/2009.

Accession Number: 20091022-0336.

Comment Date: 5 p.m. Eastern Time on Monday, November 2, 2009.

Docket Numbers: RP10-68-000.

Applicants: Quest Pipelines (KPC).

Description: Quest Pipelines submits First Revised Sheet 92 et al. to FERC Gas Tariff, Second Revised Volume 1 to be effective 11/1/09.

Filed Date: 10/22/2009.

Accession Number: 20091023-0011.

Comment Date: 5 p.m. Eastern Time on Tuesday, November 3, 2009.

Docket Numbers: RP10-69-000.

Applicants: Midwestern Gas Transmission Company.

Description: Midwestern Gas Transmission Company submits cashout report for the 9/08 thru 8/09.

Filed Date: 10/22/2009.

Accession Number: 20091023-0009.

Comment Date: 5 p.m. Eastern Time on Tuesday, November 3, 2009.

Docket Numbers: RP10-70-000.

Applicants: Natural Gas Pipeline Company of America.

Description: Natural Gas Pipeline Company of America LLC submits Third Revised Sheet No 35C.04 et al. to its FERC Gas Tariff, Seventh Revised Volume No 1.

Filed Date: 10/23/2009.

Accession Number: 20091023-0027.

Comment Date: 5 p.m. Eastern Time on Wednesday, November 4, 2009.

Docket Numbers: RP10-71-000.

Applicants: High Island Offshore System, L.L.C.

Description: High Island Offshore System, LLC submits Sixth Revised Sheet No 11 to its FERC Gas Tariff.

Filed Date: 10/23/2009.

Accession Number: 20091023-0026.

Comment Date: 5 p.m. Eastern Time on Wednesday, November 4, 2009.

Docket Numbers: RP10-72-000.

Applicants: Steuben Gas Storage Company.

Description: Steuben Gas Storage Company submits its FERC Gas Tariff, Original Volume 1, an original and six copies of its Tenth Revised Sheet 5, to be effective 10/1/09.

Filed Date: 10/23/2009.

Accession Number: 20091026-0281.

Comment Date: 5 p.m. Eastern Time on Wednesday, November 4, 2009.

Docket Numbers: RP10-73-000.

Applicants: Eastern Shore Natural Gas Company.

Description: Eastern Shore Natural Gas Company submits Sixty-Ninth Revised Sheet 7 et al. of its FERC Gas Tariff, Second Volume 1, to be effective 10/1/09.

Filed Date: 10/23/2009.

Accession Number: 20091026-0279.

Comment Date: 5 p.m. Eastern Time on Wednesday, November 4, 2009.

Docket Numbers: RP10-75-000.

Applicants: Natural Gas Pipeline Company of America.

Description: Natural Gas Pipeline Company of America LLC submits the Transportation Rate Schedule FTS Agreement with a negotiated rate exhibit between Natural and Eagle Energy Partner I, LP.

Filed Date: 10/26/2009.

Accession Number: 20091026-0283.

Comment Date: 5 p.m. Eastern Time on Monday, November 9, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-26275 Filed 10-30-09; 8:45 am]

BILLING CODE 6717-01-P